DEPARTMENT OF THE INTERIOR

Fish and Wildlife Service

[FWS-R3-ES-2008-N0054;30120-1113-0000 C4]

Endangered and Threatened Wildlife and Plants; 5-Year Reviews[FU1]

AGENCY: Fish and Wildlife Service, Interior.

ACTION: Notice of initiation of review; request for information on seven listed midwestern species.

SUMMARY: We, the U.S. Fish and Wildlife Service (Service), initiate 5-year reviews of three endangered species (least tern—interior population, Illinois cave amphipod, and Minnesota dwarf trout lily) and four threatened species (Lake Erie water snake, Lakeside daisy, Leedy's roseroot and northern wild monkshood) under the Endangered Species Act of 1973, as amended (Act). We request any new information on these species that may have a bearing on their classification as endangered or threatened. Based on the results of these 5-year reviews, we will make a finding on whether these species are properly classified under the Act.

DATES: To allow us adequate time to conduct these reviews, we must receive your information no later than June 23, 2008. However, we will continue to accept new information about any listed species at any time.

ADDRESSES: For instructions on how to submit information and review the information that we receive on these species, see “Public Solicitation of New Information.”

FOR FURTHER INFORMATION CONTACT: For species-specific information, contact the appropriate person under “Public Solicitation of New Information.” Individuals who are hearing impaired or speech impaired may call the Federal Relay Service at 800-877-8337 for TTY assistance.

SUPPLEMENTARY INFORMATION: We initiate 5-year reviews of the endangered least tern (Sterna antillarum) (interior nesting population), endangered Illinois cave amphipod (Gammarus acherondytes), endangered Minnesota dwarf trout lily (Erythronium propullans), and threatened Lake Erie water snake (Nerodia sipedon insularum), all of which are found among the western Lake Erie offshore islands and adjacent waters in the United States and Canada, as well as Lakeside daisy (Hymenoxis herbacea), Leedy's roseroot (Sedum integrifolium ssp. leedyi) and northern wild monkshood (Aconitum noveboracense), under the Act.

We request any new information on these species that may have a bearing on their classification as endangered or threatened.

Based on the results of these 5-year reviews, we will make a finding on whether these species are properly classified under the Act.

Why Do We Conduct a 5-Year Review?

Under the Act, we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. Therefore, we are requesting submission of any such information that has become available since either the original listing or the most recent status review for these species. Based on the results of these 5-year reviews, we will make the requisite findings under section 4(c)(2)(B) of the Act.

Our regulations at 50 CFR 424.21 require that we publish a notice in the Federal Register announcing those species currently under review. This notice announces initiation of our active review of the species in Table 1.

Table 1.—Summary of Listing Information, 3 Wildlife Species and 4 Plant Species in the Midwest Region
Common name | Scientific name | Status | Where listed | Final listing rule
Least tern (interior nesting population) | Sterna antillarum | Endangered | U.S.A. [AR, CO, IA, IL, IN, KS, KY, LA (Miss. R. and tributaries north of Baton Rouge), MS (Miss. R.), MO, MT, ND, NE, NM, OK, SD, TN, TX (except within 50 miles of coast)] | 50 FR 21784; 05/28/1985.
Lake Erie water snake | Nerodia sipedon insularum | Threatened | *Lake Erie offshore islands and their adjacent waters (located more than 1 mile from mainland)—U.S.A. (OH), Canada (Ont.) | 64 FR 47126; 08/30/1999.
Illinois cave amphipod | Gammarus acherondytes | Endangered | U.S.A. (IL) | 63 FR 46900; 09/03/1998.
Lakeside daisy | Hymenoxis herbacea | Threatened | U.S.A. (IL, MI, OH), Canada (Ont.) | 53 FR 23742; 06/23/1988.
Leedy's roseroot | Sedum integrifolium ssp. leedyi | Threatened | U.S.A. (MN, NY) | 78 FR 14649; 04/22/1992.
Minnesota dwarf trout lily | Erythronium propullans | Endangered | U.S.A. (MN) | 58 FR 10521; 03/26/1986.
Northern wild monkshood | Aconitum noveboracense | Threatened | U.S.A. (IA, NY, OH, WI) | 43 FR 17910; 04/26/1978.
* We define the offshore islands as those 22 or more named and unnamed western Lake Erie islands and rock outcrops located greater than 1.6 km (1 mi) from the Ohio mainland and Ontario mainland. We define the offshore island's adjacent waters as the western Lake Erie waters surrounding the offshore islands and located greater than 1.6 km (1 mi) from the Ohio mainland and Ontario mainland. These islands and rock outcrops and their adjacent waters are located within boundaries roughly defined as 82°07′30″ North Longitude, 41°33′00″ West Latitude, and 42°00′00″ West Latitude. The U.S. Lake Erie offshore islands and rock outcrops include, but are not limited to, the islands called Kellys, South Bass, Middle Bass, North Bass, Sugar, Rattlesnake, Green, Gibraltar, Starve, Gull, Ballast, Lost Ballast, and West Sister. Canadian Lake Erie offshore islands and rock outcrops of Lake Erie include, but are not limited to, the islands called Pelee, Middle, East Sister, Middle Sister, North Harbour, Hen, Chick, Big Chicken, and Little Chicken.

What Information Do We Consider in Our Review?

In our 5-year review, we consider all new information available at the time of the review. These reviews will consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the wildlife species least tern (interior nesting population), Lake Erie water snake (located on the western Lake Erie offshore islands and adjacent waters), and Illinois cave amphipod, and of the plant species Lakeside daisy, Leedy's roseroot, Minnesota dwarf trout lily, and northern wild monkshood. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so.

Mail or hand-deliver information on the following species to the U.S. Fish and Wildlife Service, Field Supervisor, at the corresponding address below. You may also view information we receive in response to this notice, as well as other documentation in our files, at the following locations by appointment, during normal business hours.

Least tern: 101 Park DeVille Drive, Suite A, Columbia, MO 65203-0007, Attention: Ms. Jane Ledwin. Direct inquiries to Ms. Ledwin at 573-234-2132, extension 109.

Lake Erie water snake: 6950-H Americana Parkway, Reynoldsburg, OH 43068-4127, Attention: Ms. Megan Seymour. Direct inquiries to Ms. Seymour at 614-469-6923, extension 16.

Lakeside daisy: 6950-H Americana Parkway, Reynoldsburg, OH 43068-4127, Attention: Ms. Sarena Selbo. Direct inquiries to Ms. Selbo at 614-469-6923, extension 17.

Illinois Cave amphipod: 1511 47th Ave., Moline, IL 61265, Attention: Ms. Kristen Lundh. Direct inquiries to Ms. Lundh at 309-757-5800, extension 215.

Leedy's roseroot and Minnesota dwarf trout lily: 4101 E. 80th Street, Bloomington, MN 55425-1665, Attention: Mr. Phil Delphey. Direct inquiries to Mr. Delphey at 612-725-3548.

Northern wild monkshood: 2661 Scott Tower Drive, New Franken, WI 54229-9565, Attention: Ms. Cathy Carnes. Direct inquiries to Ms. Carnes at 920-866-1732.

All electronic information must be submitted in Text format or Rich Text format to FW3MidwestRegion_5YearReview@fws.gov. Please send information for each species in a separate e-mail. Provide your name and return address in the body of your message and include the following identifier in the subject line of the e-mail: Information on 5-year review for [NAME OF SPECIES].

How Are These Species Currently Listed?

Table 1 provides current listing information. Also, the List, which covers all listed species, is also available on our Internet site at http://endangered.fws.gov/wildlife.html#Species.

Definitions Related to this Notice

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For each species under review, if we find new information that indicates a change in classification may be warranted, we may propose a new rule that could do one of the following: (a) Reclassify the species from threatened to endangered (uplist); (b) reclassify the species from endangered to threatened (downlist); or (c) remove the species from the List (delist).

If we determine that a change in classification is not warranted, then the species will remain on the List under its current status.

Authority: We publish this document under the authority of the Endangered Species Act of 1973, as amended (16 U.S.C. 1531 et seq.).

Dated: March 19, 2008.
Robert Krska,
Acting Assistant Regional Director, Ecological Services, Midwest Region.

[FR Doc. E8-8707 Filed 4-21-08; 8:45 am]

BILLING CODE 4310-55-P